DEPARTMENT OF THE INTERIOR

Bureau of Land Management

[AZ 320-06-1610-DP-091A-241E]

Notice of Availability of Yuma Field Office Draft Resource Management Plan and Draft Environmental Impact Statement

AGENCY: Bureau of Land Management, Interior.

ACTION: Notice of Availability (NOA) of Yuma Field Office (YFO) Draft Resource Management Plan and Draft Environmental Impact Statement (DRMP/DEIS).

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Resource Management Plan and Draft Environmental Impact Statement (DRMP/DEIS) for the Yuma Field Office (YFO), Arizona, and by this notice is announcing the opening of the public review and comment period.

DATES: Written comments on the DRMP/DEIS will be accepted for 90 days following the date the Environmental Protection Agency publishes its NOA in the Federal Register. Future meetings or hearings and any other public involvement activities will be announced at least 15 days in advance through local media.

ADDRESSES: Written comments may be mailed to Rebecca Heick, Bureau of Land Management, Yuma Field Office, 2555 East Gila Ridge Road, Yuma, Arizona 85365 or by e-mail at AZ_YM_RMP@blm.gov. You may also hand-deliver comments to the above listed address. A minimum of five public meetings will be held during the 90-day public review and comment period during which oral comments will be accepted. Exact dates, places, and times of public meetings will be posted on the BLM Arizona Web page at http://www.blm.gov/az/, news releases and Planning Bulletin, or you may contact Micki Bailey at (928) 317-3215, for further information.

Public comments, including names and street addresses of respondents, will be available for public review at the Bureau of Land Management, Yuma Field Office, 2555 East Gila Ridge Road, Yuma, Arizona 85365, during regular business hours (8 a.m. to 4:30 p.m.), Monday through Friday, except holidays. Individual respondents may request confidentiality. If you wish to withhold your name or street address from public review or from disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: Micki Bailey, Planning and Environmental Coordinator, Bureau of Land Management, Yuma Field Office, 2555 East Gila Ridge Road, Yuma, Arizona 85365; telephone (928) 317-3200.

SUPPLEMENTARY INFORMATION: A copy of the YFO DRMP/DEIS is available for review via the internet from a link at http://www.blm.gov/az/LUP/planning.htm (subject to change), electronic (on CD-ROM), and paper at the BLM YFO. Electronic (on CD-ROM) and paper copies may also be obtained by contacting Micki Bailey at the aforementioned address and phone number.

The planning area encompasses more than 1.3 million acres of BLM-administered public land. The DRMP/DEIS includes strategies for protecting and preserving the biological, cultural, recreational, geological, educational, scientific, and scenic values that balance multiple uses of the BLM-administered lands throughout the YFO planning area.

The agency-preferred alternative attempts to accomplish the above while achieving consistency among the Bureau of Reclamation, U.S. Fish and Wildlife Service, Arizona Department of Transportation, Arizona State Land Department, Arizona Game and Fish Department, California Department of Fish and Game, the BLM, and other land managing agencies within the boundaries of the planning area. The range of alternatives in this draft evaluates planning decisions brought forward from the current BLM planning documents, the Yuma District Resource Management Plan (1987), the Lower Gila South Resource Management Plan (1988), and the Lower Gila North Management Framework Plan (1983).

The agency-preferred alternative identifies one new proposed Area of Critical Environmental Concern (ACEC): Dripping Springs Natural and Cultural ACEC (11,700 acres). One existing ACEC would be expanded under the agency-preferred alternative: Gila River Cultural ACEC (3,700 to 28,500 acres). The Gila River Cultural ACEC would be renamed the Sears Point Cultural ACEC.

A total of seven ACECs are represented within the [proposed] range of alternatives. The existing Big Maria Mountains Cultural ACEC (4,500 acres) would be carried forward within Alternatives A, B, C, and E. An expansion of this ACEC is proposed within Alternative D (from 4,500 acres to 9,200 acres). Dripping Springs Natural and Cultural ACEC is proposed within Alternatives C (11,700 acres), D (9,800 acres), and E (11,700 acres). The Gila River Terraces and Trails Cultural ACEC is proposed within Alternative D only (140,400 acres). The Limitrophe is proposed as an ACEC within Alternative D only (4,500 acres). Palomas Plain Natural ACEC is proposed within Alternative D only (429,900 acres). The Gila River Cultural ACEC would be carried forward within Alternatives A and B (3,700 acres), and expanded within Alternatives C, D, and E (28,500 acres). Walter's Camp Natural and Cultural ACEC is proposed within Alternative D only (3,500 acres).

The following types of resource-use limitations would apply to these ACECs: (1) Allowable uses would be limited to those that are compatible with the natural or cultural resources for which the area is designated, (2) Recreation facilities would be limited to projects that protect ACEC values, and (3) Travel would be permitted only on designated open and signed routes. For detailed information on specific management for each proposed ACEC, see Chapter 2, Description of Alternatives, Special Designations section.

After reviewing and considering all public comments received during this comment period, a Proposed Resource Management Plan and Final Environmental Impact Statement will be prepared by the BLM in accordance with planning regulations at 43 CFR 1610 and NEPA at 40 CFR 1502.

Elaine Y. Zielinski,
Arizona State Director.

[FR Doc. E6-21311 Filed 12-14-06; 8:45 am]

BILLING CODE 4310-32-P